DEPARTMENT OF THE INTERIOR

Bureau of Land Management

[LLCOS01000.L12200000.DP0000.18X]

Notice of Availability of the Draft Resource Management Plan Amendment and Preliminary Environmental Assessment for Evaluation of Potential Areas of Critical Environmental Concern Within the Tres Rios Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) Amendment and Preliminary Environmental Assessment (EA) evaluating potential Areas of Critical Environmental Concern (ACEC) for the Tres Rios Field Office and by this Notice is announcing the opening of the comment period.

DATES: To ensure that comments will be considered, the BLM must receive written comments on the Draft RMP Amendment and Preliminary EA by April 22, 2019. The BLM will announce future meetings or hearings and any other public participation activities at least 15 days in advance through public notices, media releases, and/or mailings.

ADDRESSES: You may submit comments related to the Tres Rios Field Office ACEC RMP Amendment by any of the following methods:

• Website: https://go.usa.gov/xnnTC.

• Email: blm_co_trfo_acec@blm.gov.

• Fax: (970) 882-6481.

• Mail: Tres Rios Field Office, 29211 Highway 184, Dolores, CO 81323.

Copies of the Tres Rios Field Office ACEC RMP Amendment are available in the Tres Rios Field Office at the above address.

FOR FURTHER INFORMATION CONTACT: Keith Fox, Planning and Environmental Specialist; telephone (970) 882-6856; email blm_co_trfo_acec@blm.gov. Persons who use a telecommunication device for the deaf (TDD) may call the Federal Relay Service (FRS) at 1-800-877-8339 to contact the above individual during normal business hours. The FRS is available 24 hours a day, seven days a week, to leave a message or question with the above individual. You will receive a reply during normal business hours.

SUPPLEMENTARY INFORMATION: The BLM has prepared an RMP Amendment with an associated EA to evaluate areas nominated by the BLM and the public within the Tres Rios Field Office Planning Area and within the Silverton area of San Juan County, Colorado (now managed by the BLM Gunnison Field Office), for potential designation as ACECs. The Preliminary EA considers management alternatives for 17 potential ACECs and discloses the direct, indirect and cumulative impacts of management prescriptions included in each of the four alternatives. The following alternatives are considered in the EA:

• Alternative A: No Action—continuation of existing management direction for ACECs;

• Alternative B: No ACECs Designated—existing ACECs would not be carried forward and proposed areas would not be designated;

• Alternative C: Agency Preferred—reduce the size of existing Anasazi Culture and Gypsum Valley ACECs, designate Mesa Verde Escarpment ACEC

• Alternative D: Designate all Proposed ACECs

See the following for potential ACEC acreage by alternative and the associated Relevant and Important Values:

Potential ACEC | Alternative A (No Action) acreage | Alternative C (Preferred) acreage | Alternative D acreage | Relevant and important values
Ancestral Puebloan (formerly named Anasazi Culture) | 1,002 | 792 | 792 | Cultural and Rare plants.
Cement Creek |  |  | 446 | Rare plants.
Cinnamon Pass |  |  | 562 | Rare plants.
Coyote Wash |  |  | 642 | Rare plants.
Disappointment Valley |  |  | 2,688 | Rare plants.
Dolores River Canyon—North |  |  | 6,019 | Scenic, cultural, rare plants, wildlife and geology.
Dolores River Canyon—South |  |  | 5,550 | Wildlife and rare plants.
Gypsum Valley | 13,135 | 6,170 | 6,170 | Rare plants.
Lake Como |  |  | 100 | Rare plants.
McIntyre Canyon |  |  | 2,968 | Rare plants.
Mesa Verde Entrance |  |  | 626 | Rare plants.
Mesa Verde Escarpment (this area was nominated during the public scoping period, and, therefore was not included in the Notice of Intent for the RMP Amendment) |  | 7,373 | 7,373 | Cultural and rare plants.
Muleshoe Bench |  |  | 665 | Wildlife.
Silvey's Pocket |  |  | 707 | Rare plants.
Slick Rock |  |  | 3,427 | Wildlife and rare plants.
Snaggletooth |  |  | 23,825 | Wildlife, cultural and scenic.
Spring Creek Basin |  |  | 25,286 | Rare plants.

The following ACEC nominations were evaluated to determine if the relevance and importance criteria were met, but were not included in any alternative because they did not meet relevance or importance criteria:

• Grassy Hills; for rare terrestrial plant community.

• Navajo River; for scenic quality and fish and wildlife species.

The following management limitations are recommended for the proposed ACECs in the preferred alternative, alternative C:

• Ancestral Puebloan—land use right of ways, utility corridors and road construction will avoid cultural resource sites by 100 meters; leasable mineral development will be restricted to No Surface Occupancy.

• Gypsum Valley—no changes in management prescriptions from current management.

• Mesa Verde Escarpment—utility right of ways prohibited, restrictions on recreation right of ways, facilities, road construction, and limiting travel to designated routes.

Through this Notice, the BLM is inviting the public to provide comments regarding the potential environmental impacts related to the management alternatives. All public comments will receive consideration prior to the BLM's decision regarding ACEC designation.

Please note that public comments and information submitted, including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jamie E. Connell,
BLM Colorado State Director.

[FR Doc. 2019-02813 Filed 2-19-19; 8:45 am]

BILLING CODE 4310-JB-P